Executive Order 14191 of January 29, 2025

Expanding Educational Freedom and Opportunity for Families

By the authority vested in me as President by the Constitution and the laws of the United States of America, and to improve the education, well-being, and future success of America's most prized resource, her young citizens, it is hereby ordered:

Section 1. Purpose. Parents want and deserve the best education for their children. But too many children do not thrive in their assigned, government-run K-12 school. According to this year's National Assessment of Educational Progress (NAEP), 70 percent of 8th graders were below proficient in reading, and 72 percent were below proficient in math. Moreover, geographically based school assignments exacerbate the cost of housing in districts with preferred schools, straining the finances of millions of American families sacrificing for their children's futures.

When our public education system fails such a large segment of society, it hinders our national competitiveness and devastates families and communities. For this reason, more than a dozen States have enacted universal K-12 scholarship programs, allowing families—rather than the government—to choose the best educational setting for their children. These States have highlighted the most promising avenue for education reform: educational choice for families and competition for residentially assigned, government-run public schools. The growing body of rigorous research demonstrates that well-designed education-freedom programs improve student achievement and cause nearby public schools to improve their performance.

Sec. 2. Policy. It is the policy of my Administration to support parents in choosing and directing the upbringing and education of their children.

Sec. 3. Guidance on Supporting State-based K-12 Educational Choice. Within 60 days of the date of this order, the Secretary of Education shall issue guidance regarding how States can use Federal formula funds to support K-12 educational choice initiatives.

Sec. 4. Encouraging Education Freedom through Discretionary Grant Programs. (a) The Secretary of Education shall include education freedom as a priority in discretionary grant programs, as appropriate and consistent with applicable law.

(b) Within 90 days of the date of this order, the Secretary of Labor and the Secretary of Education shall review their respective discretionary grant programs and each submit a plan to the President, through the Assistant to the President for Domestic Policy, that identifies, evaluates, and makes recommendations regarding using relevant discretionary grant programs to expand education freedom for America's families and teachers.

Sec. 5. Expanding Opportunities for Low-Income, Working Families. Within 90 days of the date of this order, the Secretary of Health and Human Services shall issue guidance regarding whether and how States receiving block grants for families and children from the Department, including the Child Care and Development Block Grant (CCDGB), can use them to expand educational choice and support families who choose educational alternatives to governmental entities, including private and faith-based options.

Sec. 6. Helping Military Families. Within 90 days of the date of this order, the Secretary of Defense shall review any available mechanisms under which military-connected families may use funds from the Department of Defense to attend schools of their choice, including private, faith-based, or public charter schools, and submit a plan to the President describing such mechanisms and the steps that would be necessary to implement them beginning in the 2025-26 school year.

Sec. 7. Helping Children Eligible for Bureau of Indian Education (BIE) Schools. Within 90 days of the date of this order, the Secretary of the Interior shall review any available mechanisms under which families of students eligible to attend BIE schools may use their Federal funding for educational options of their choice, including private, faith-based, or public charter schools, and submit a plan to the President describing such mechanisms and the steps that would be necessary to implement them for the 2025-26 school year. The Secretary shall report on the current performance of BIE schools and identify educational options in nearby areas.

Sec. 8. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 29, 2025.

[FR Doc. 2025-02233

Filed 1-31-25; 11:15 am]

Billing code 3395-F4-P